DEPARTMENT OF ENERGY

Federal Energy Regulatory Commission

[Docket No. ER97-1523-072, et al.]

New York Independent System Operator, Inc., et al.; Electric Rate and Corporate Filings

January 21, 2003.

The following filings have been made with the Commission. The filings are listed in ascending order within each docket classification.

1. New York Independent System Operator, Inc.

[Docket Nos. ER97-1523-072, OA97-470-067, and ER97-4234-065]

Take notice that on January 16, 2003, the New York Independent System Operator, Inc. (NYISO), tendered for filing a refund report, in connection with the Commission's November 1, 2002, Order in the above-referenced dockets.

The NYISO has served a copy of this filing to all parties listed on the official service list maintained by the Secretary of the Commission in docket numbers ER97-1523-063, OA97-470-058 and ER97-4234-056.

Comment Date: February 6, 2003.

2. Southern California Edison Company

[Docket No. ER02-925-003]

Take notice that on January 17, 2003, Southern California Edison Company (SCE) tendered for filing revised rate sheets for its Transmission Owner Tariff (TO Tariff), FERC Electric Tariff, First Revised Volume No. 6. The purpose of this filing is to comply with the Federal Energy Regulatory Commission's letter order rendered in Docket No. ER02-925 on December 24, 2002.

SCE states that copies of this filing were served upon the Service List compiled by the Secretary in this docket.

Comment Date: February 7, 2003.

3. Boston Edison Company

[Docket No. ER03-161-001]

Take notice that on January 17, 2003, Boston Edison Company (Boston Edison) tendered for filing an executed Related Facilities Agreement between Boston Edison and Lake Road Generating Company, L.P., in compliance with the directives of the Commission as stated in its December 19, 2002 letter order in Docket No. ER03-161-000.

Boston Edison requests an effective date of the Agreement of January 5, 2003.

Comment Date: February 7, 2003.

4. San Diego Gas & Electric Company

[Docket Nos. ER03-418-000 and ER99-3426-003]

Take notice that on January 15, 2003, San Diego Gas & Electric Company (SDG&E) tendered for filing with the Federal Energy Regulatory Commission (Commission) revised tariff sheets and a request for continued authorization by the Commission for SDG&E to make wholesale power sales at market-based rates. SDG&E requests that the Commission grant certain waivers and accept for filing a proposed tariff governing sales of electric capacity, energy and certain ancillary services at market-based rates in the Western Interconnection pursuant to Section 205 of the Federal Power Act.

Comment Date: February 5, 2003.

5. Wayne-White Counties Electric Cooperative

[Docket No. ER03-419-000]

Take notice that on January 15, 2003, Wayne-White Counties Electric Cooperative (Wayne-White or Cooperative), tendered for filing an executed Service Agreement for Firm Point-to-Point Transmission Service with Illinois Power Company. Under the Service Agreement, Wayne-White will provide firm point-to-point transmission service to Illinois Power Company under the Cooperative's Open Access Transmission Tariff. Wayne-White requests an effective date of January 1, 2003, the date service was first provided.

Wayne-White states that a copy of the filing was served upon Illinois Power Company.

Comment Date: February 5, 2003.

6. PPL Wallingford Energy LLC and PPL EnergyPlus, LLC

[Docket No. ER03-421-000

Take notice that on January 16, 2003, PPL Wallingford Energy LLC (PPL Wallingford) and PPL EnergyPlus, LLC (PPL EnergyPlus) filed a Cost of Service Agreement among PPL Wallingford, PPL EnergyPlus and ISO New England Inc. (ISO-NE) in the above-captioned proceeding. PPL Wallingford and PPL EnergyPlus request an effective date of February 1, 2003 and request waivers of all applicable Commission regulations to permit such effective date.

PPL Wallingford and PPL EnergyPlus have provided a copy of this filing to ISO-NE on the date of filing and have also provided courtesy copies to the utility regulatory agencies in Connecticut, Maine, Massachusetts, New Hampshire, Rhode Island and Vermont and to Counsel to the NEPOOL Participants Committee.

Comment Date: February 6, 2003.

7. Safe Harbor Water Power Corporation

[Docket No. ER03-423-000]

Take notice that on January 16, 2003, Safe Harbor Water Power Corporation (Safe Harbor) tendered for filing, under section 205 of the Federal Power Act, a rate schedule for reactive power and voltage control from generation sources service provided to the transmission facilities controlled by the PJM Interconnection LLC (PJM). Safe Harbor respectfully requests that the Commission accept the proposed rate schedule for filing on or before February 28, 2003 in order to permit the rate schedule to become effective on March 1, 2003, thereby alleviating the need for any retroactive billing by PJM.

Safe Harbor states that they mailed a copy of this filing to PJM.

Comment Date: February 6, 2003.

8. Virginia Electric and Power Company

[Docket No. ER03-426-000]

Take notice that on January 17, 2003, Virginia Electric and Power Company (Dominion Virginia Power or the Company) tendered for filing a Service Agreement for Network Integration Transmission Service and Network Operating Agreement by Dominion Virginia Power to the Town of Enfield, NC, designated as Service Agreement Number 372, under the Company's Open Access Transmission Tariff, FERC Electric Tariff, Second Revised Volume No. 5, to Eligible Purchasers dated June 7, 2000.

Dominion Virginia Power requests an effective date of January 1, 2003, the date service was first provided to the customer. Comment Date: February 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1926 Filed 1-27-03; 8:45 am]

BILLING CODE 6717-01-P